DEPARTMENT OF ENERGY

Federal Energy Regulatory Commission

Combined Notice of Filings #1

December 7, 2005.

Take notice that the Commission received the following electric rate filings:

Docket Numbers: ER03-1003-002.

Applicants: Michigan Electric Transmission Company, LLC.

Description: Michigan Public Power, Michigan South Central Power Agency and Michigan Electric Transmission Co, LLC submit a joint response to address the questions presented by the Commission's 10/20/05 Order.

Filed Date: 11/21/2005.

Accession Number: 20051128-0511.

Comment Date: 5 p.m. eastern time on Monday, December 12, 2005.

Docket Numbers: ER05-1285-002.

Applicants: Southwest Power Pool, Inc.

Description: Southwest Pool Power, Inc submits compliance filing providing for revisions & clarifications to its Open Access Transmission Tariff.

Filed Date: 11/29/2005.

Accession Number: 20051205-0067.

Comment Date: 5 p.m. eastern time on Tuesday, December 20, 2005.

Docket Numbers: ER05-1523-001.

Applicants: Xcel Energy Services Inc.

Description: Xcel Energy Services Inc, on behalf of Northern States Power Co, submits the Refund Report required by FERC 11/23/05 Letter Order accepting an executed Interconnection Agreement.

Filed Date: 11/30/2005.

Accession Number: 20051202-0066.

Comment Date: 5 p.m. eastern time on Wednesday, December 21, 2005.

Docket Numbers: ER06-30-001.

Applicants: Midwest Independent Transmission System Operator, Inc.

Description: Midwest Independent Transmission System Operator, Inc submits supplemental informational filing to its Executed Large Generator Interconnection Agreement with Union Electric Co dba AmerenUE.

Filed Date: 11/29/2005.

Accession Number: 20051206-0192.

Comment Date: 5 p.m. eastern time on Tuesday, December 20, 2005.

Docket Numbers: ER06-63-001.

Applicants: Take Two, LLC.

Description: Take Two, LLC's petition for acceptance of initial rate schedule (FERC Electric Rate Schedule No.1), waivers and blanket authority.

Filed Date: 11/30/2005.

Accession Number: 20051202-0059.

Comment Date: 5 p.m. eastern time on Wednesday, December 21, 2005.

Docket Numbers: ER06-253-000.

Applicants: American Electric Power Service Corporation.

Description: American Electric Power Service Corp, as agent for Ohio Power Co, submits a Facilities Agreement with the City of Shelby, Ohio and 11/30/05 filing of cover page inadvertently left of original filing.

Filed Date: 11/29/2005.

Accession Number: 20051201-0021.

Comment Date: 5 p.m. eastern time on Tuesday, December 20, 2005.

Docket Numbers: ER06-254-000.

Applicants: Avista Corporation.

Description: Avista Corp submits a non-conforming Long Term Service Agreement designated as FERC Rate Schedule No. 323 providing for the sale of Dynamic Capacity and Energy Service to NorthWestern Corp.

Filed Date: 11/29/2005.

Accession Number: 20051201-0020.

Comment Date: 5 p.m. eastern time on Tuesday, December 20, 2005.

Docket Numbers: ER06-255-000.

Applicants: Midwest Independent Transmission System Operator, Inc.

Description: Midwest Independent Transmission System Operator Inc submits an unexecuted Large Generator Interconnection Agreement among FirstEnergy Generation Corp and American Transmission System, Inc.

Filed Date: 11/29/2005.

Accession Number: 20051201-0019.

Comment Date: 5 p.m. eastern time on Tuesday, December 20, 2005.

Docket Numbers: ER06-256-000.

Applicants: Old Dominion Electric Cooperative.

Description: Old Dominion Electric Cooperative submits an application for providing cost-based Reactive Power and Voltage Control and Generation Sources Service from its natural gas-fired generating facility.

Filed Date: 11/29/2005.

Accession Number: 20051201-0024.

Comment Date: 5 p.m. eastern time on Tuesday, December 20, 2005.

Docket Numbers: ER06-257-000.

Applicants: Southwest Power Pool, Inc.

Description: Southwest Power Pool, Inc submits an unexecuted service agreement for Network Integration Transmission Service with Associated Electric Cooperative, Inc.

Filed Date: 11/30/2005.

Accession Number: 20051201-0184.

Comment Date: 5 p.m. eastern time on Wednesday, December 21, 2005.

Docket Numbers: ER06-258-000.

Applicants: Wisconsin Public Service Corporation.

Description: Wisconsin Public Service Corp submits its Second Revised Service Agreement No. 11 with the Village of Stratford Water & Electric Utility effective 11/1/05.

Filed Date: 11/30/2005.

Accession Number: 20051202-0060.

Comment Date: 5 p.m. eastern time on Wednesday, December 21, 2005.

Docket Numbers: ER06-260-000.

Applicants: Midwest Independent Transmission System Operator, Inc.

Description: Midwest Independent Transmission System Operator Inc submits a Revised and Restated Generator Interconnection and Operating Agreement among FirstEnergy Generation Corp and American Transmission Systems, Inc.

Filed Date: 11/30/2005.

Accession Number: 20051202-0062.

Comment Date: 5 p.m. eastern time on Wednesday, December 21, 2005.

Docket Numbers: ER06-261-000.

Applicants: Delta Energy Center, LLC.

Description: Delta Energy Center LLC submits Appendix A, revisions to certain Rate Schedules of its Reliability Must-Run Agreement with the California Independent System Operator Corp.

Filed Date: 11/30/2005.

Accession Number: 20051202-0063.

Comment Date: 5 p.m. eastern time on Wednesday, December 21, 2005.

Docket Numbers: ER06-262-000.

Applicants: Pittsfield Generating Company, L.P.

Description: Pittsfield Generating Co LP, submits an unexecuted Reliability Must Run Agreement among itself, Sempra Energy Trading Corp, and ISO New England.

Filed Date: 11/30/2005.

Accession Number: 20051202-0064.

Comment Date: 5 p.m. eastern time on Wednesday, December 21, 2005.

Docket Numbers: ER06-263-000.

Applicants: Cleco Power LLC.

Description: Cleco Power LLC submits an amendment to Appendix B of the Electric Service Interconnection Agreement with the Louisiana Energy and Power Authority.

Filed Date: 11/30/2005.

Accession Number: 20051202-0065.

Comment Date: 5 p.m. eastern time on Wednesday, December 21, 2005.

Docket Numbers: ER06-265-000.

Applicants: Doswell Limited Partnership.

Description: Doswell Limited Partnership submits Rate Schedule under which its sets forth charges and its revenue requirement for providing cost-based Reactive Support and Voltage Control from Generation Source Services.

Filed Date: 11/30/2005.

Accession Number: 20051202-0067.

Comment Date: 5 p.m. eastern time on Wednesday, December 21, 2005.

Docket Numbers: ER06-266-000.

Applicants: Duke Energy Oakland, LLC.

Description: Duke Energy Oakland, LLC submits revisions to certain reliability Must-Run Rate Schedules of its Reliability Must Run Agreement with California Independent System Operator Corp for contract year 2006.

Filed Date: 11/30/2005.

Accession Number: 20051202-0061.

Comment Date: 5 p.m. eastern time on Wednesday, December 21, 2005.

Docket Numbers: ER06-268-000.

Applicants: Los Esteros Critical Energy Facility, LLC.

Description: Los Esteros Critical Energy Facility, LLC submits revisions to its tariff and certain Rate Schedules of its Reliability Must-Run Agreement with California Independent System Operator Corp.

Filed Date: 11/30/2005.

Accession Number: 20051202-0055.

Comment Date: 5 p.m. eastern time on Wednesday, December 21, 2005.

Docket Numbers: ER06-269-000.

Applicants: ISO New England Power Company.

Description: ISO New England, Inc and New England Power Co submit an unexecuted service agreement for a large generator interconnection under Schedule 22 of their Open Access Transmission Tariff.

Filed Date: 11/30/2005.

Accession Number: 20051202-0056.

Comment Date: 5 p.m. eastern time on Wednesday, December 21, 2005.

Docket Numbers: ER06-270-000.

Applicants: Solios Asset Management LLC.

Description: Solios Asset Management LLC petition Commision for Order Accepting Market-Based Rate Schedule for filing and granting waivers and blanket approvals.

Filed Date: 11/30/2005.

Accession Number: 20051202-0082.

Comment Date: 5 p.m. eastern time on Wednesday, December 21, 2005.

Docket Numbers: ER06-271-000; EL06-21-000.

Applicants: Solios Power LLC.

Description: Solios Power LLC submits a petition for issuance of declaratory orders, petition for order accepting market-based rate schedule for filing.

Filed Date: 11/30/2005.

Accession Number: 20051202-0087.

Comment Date: 5 p.m. eastern time on Wednesday, December 21, 2005.

Docket Numbers: ER06-272-000.

Applicants: Oregon Trail Electric Consumers Cooperative, Inc.

Description: Oregon Trail Electric Consumers Coop, Inc advise FERC that due to amendments of section 201(f) of the Federal Power Act, it is not longer a public utility.

Filed Date: 11/30/2005.

Accession Number: 20051205-0066.

Comment Date: 5 p.m. eastern time on Wednesday, December 21, 2005.

Docket Numbers: ER96-1145-016; EL05-111-000.

Applicants: Alternate Power Source, Inc.

Description: Alternate Power Source, Inc submits its corrected Market Behavior Rules and the addition of the change in status reporting requirement for their FERC Electric Tariff Rate Schedule 1.

Filed Date: 11/29/2005.

Accession Number: 20051202-0058.

Comment Date: 5 p.m. eastern time on Tuesday, December 20, 2005.

Any person desiring to intervene or to protest in any of the above proceedings must file in accordance with Rules 211 and 214 of the Commission's Rules of Practice and Procedure (18 CFR 385.211 and 385.214) on or before 5 p.m. eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other and the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St., NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed dockets(s). For assistance with any FERC Online service, please e-mail FERCOnlineSupport@ferc.gov. or call (866) 208-3676 (toll free). For TTY, call (202) 502-8659.

Magalie R. Salas,
Secretary.

[FR Doc. E5-7289 Filed 12-13-05; 8:45 am]

BILLING CODE 6717-01-P